SECURITIES AND EXCHANGE COMMISSION

[Release No. 34-79806; File No. SR-NSX-2017-01]

Self-Regulatory Organizations; National Stock Exchange, Inc.; Notice of Filing and Immediate Effectiveness of a Proposed Rule Change To Amend Exchange Rule 11.26 Regarding the Data Collection Requirements of the Regulation NMS Plan To Implement a Tick Size Pilot Program

January 17, 2017.

Correction

In notice document 2017-01461, appearing on pages 8249-8252, in the issue of Tuesday, January 24, 2017, make the following correction:

On page 8249, in the second column, the heading is corrected to read as set forth above.

[FR Doc. C1-2017-01461 Filed 2-2-17; 8:45 am]

BILLING CODE 1301-00-D